DEPARTMENT OF JUSTICE

Antitrust Division

Notice Pursuant to the National Cooperative Research and Production Act of 1993—TAI and Southwest Research Institute

Notice is hereby given that, on August 24, 2011, pursuant to Section 6(a) of the National Cooperative Research and Production Act of 1993, 15 U.S.C. 4301 et seq. (“the Act”), TAI and SwRI Consortium for Advanced Research for the Development of Telecommunication and Security Tools (“TAISR”) has filed written notifications simultaneously with the Attorney General and the Federal Trade Commission disclosing (1) the identities of the parties to the venture and (2) the nature and objective of the venture. The notifications were filed for the purpose of extending the Act's provisions limiting the recovery of antitrust plaintiffs to actual damages under specified circumstances. Pursuant to Section 6(b) of the Act, the identities of the parties to the venture are: Southwest Research Institute, San Antonio, TX, and Tridex Associates, Inc., Woodbridge, VA.

The general area of TAISR's planned activities is to advance the field of security and telecommunications tools research and development by organizing and implementing joint engineering and scientific research activities. These activities will encompass the development of sophisticated telecommunication tools and or components in the engineering and scientific areas of electronic systems, hardware design, packaging and rapid prototyping.

Membership in this research group is closed, and the participants intend to file additional written notification disclosing all changes in planned activities.

Patricia A. Brink,
Director of Civil Enforcement, Antitrust Division.

[FR Doc. 2011-27114 Filed 10-21-11; 8:45 am]

BILLING CODE 4410-11-M